DEPARTMENT OF LABOR

Employment and Training Administration

[TA-W-83,177]

JP Morgan Chase & Company, Mortgage Banking Division, Solicitation Prework Group, Escrow Department, Special Loans Department, and Assumptions Department, Florence, South Carolina; Amended Certification Regarding Eligibility To Apply for Worker Adjustment Assistance

In accordance with Section 223 of the Trade Act of 1974, as amended (“Act”), 19 U.S.C. 2273, the Department of Labor issued a Certification of Eligibility to Apply for Worker Adjustment Assistance on December 26, 2013, applicable to workers of JP Morgan Chase and Company, Mortgage Banking Division, Solicitation Prework Group, Florence, South Carolina. The Department's notice of determination was published in the Federal Register on January 16, 2014 (79 FR 2902).

The Department reviewed the certification for workers of the subject firm. The workers are engaged in activities related to the supply of mortgage solicitation services.

A review by The Department revealed that workers in the Escrow Department, Special Loans Department, and Assumptions Department of JP Morgan Chase and Company, Mortgage Banking Division, Florence, South Carolina were affected by the same shift of services to a foreign country that contributed importantly to the workers' separations in the Solicitation Prework group.

The amended notice applicable to TA-W-83,177 is hereby issued as follows:

All workers of JP Morgan Chase and Company, Mortgage Banking Division, Solicitation Prework Group, Escrow Department, Special Loans Department, and Assumptions Department, Florence, South Carolina, who became totally or partially separated from employment on or after October 28, 2012 through December 26, 2015 and all workers in the group threatened with total or partial separation from employment on the date of certification through December 26, 2015, are eligible to apply for adjustment assistance under Chapter 2 of Title II of the Trade Act of 1974, as amended.

Signed in Washington, DC, this 25th day of April, 2014.
Michael W. Jaffe,
Certifying Officer, Office of Trade Adjustment Assistance.

[FR Doc. 2014-10727 Filed 5-9-14; 8:45 am]

BILLING CODE 4510-FN-P